Title 3—

The President

Proclamation 10915 of April 9, 2025

National Crime Victims' Rights Week, 2025

By the President of the United States of America

A Proclamation

All Americans should be able to thrive in their communities, raise their families, and lead long and fulfilling lives without fear of being victimized by crime. Tragically, in recent years, soft-on-crime policies have emboldened vicious criminals, murderers, and gang members to wage war on our public safety, endanger our public spaces, and break down the rule of law. This National Crime Victims' Rights Week, we offer our unending support to every victim of crime, and we recognize that freedom in America cannot survive without safety in America.

Under the previous administration, violent crime skyrocketed in virtually every city of our great Nation, with 12 major cities breaking all-time high murder records in 2021. Over the last 4 years, radical left-wing policies empowered some of the most depraved criminals on the planet and made it harder for police officers to do their jobs. Earlier this year, President Biden commuted the sentences of 37 death row criminals guilty of the most heinous acts imaginable—including rape, child molestation, and murder. These commutations stand as a devastating betrayal of innocent victims and their families.

During the Biden Administration, the United States Border Patrol recorded over 10.8 million encounters of illegal aliens nationwide, along with over 2 million known “got aways”—a number that could be underreported by as much as 20 percent. Millions of illegal aliens have entered or evaded capture, with countless criminals and potential national security threats now at large in our Country. That is why within hours of taking the oath of office, I declared a national emergency on our southern border. We have also begun the largest deportation operation in the history of our country—and as your 47th President, the first bill I signed into law was the Laken Riley Act, which mandates the detention of all dangerous criminal aliens who threaten public safety.

To aid the righteous mission of the men and women in blue, my Administration is committed to enhancing legal protections for law enforcement officers. I am also asking the Congress for a new crime bill that will get tough on repeat offenders while enhancing protection for our law enforcement officials, so they can do their jobs without fear of their lives being destroyed.

Under my leadership, America will soon, once again, be a country where the blessings of life and peace exist freely in our homes, at places of work and worship, and throughout our cities, streets, and neighborhoods. Our citizens will be able to live without the threat of getting robbed, assaulted, or shot. This week, as we honor the lives of victims and their families, I reaffirm my solemn pledge to build a safer, stronger, and more secure Nation for citizens of every race, religion, color, and creed.

NOW, THEREFORE, I, DONALD J. TRUMP, President of the United States of America, by virtue of the authority vested in me by the Constitution and the laws of the United States, do hereby proclaim April 6 through April 12, 2025, as National Crime Victims' Rights Week. I urge all Americans, families, law enforcement, community and faith-based organizations, and private organizations to work together to support victims of crime and protect their rights.

IN WITNESS WHEREOF, I have hereunto set my hand this ninth day of April, in the year of our Lord two thousand twenty-five, and of the Independence of the United States of America the two hundred and forty-ninth.

[FR Doc. 2025-06960

Filed 4-21-25; 8:45 am]

Billing code 3395-F4-P